DEPARTMENT OF COMMERCE

National Oceanic and Atmospheric Administration

[RTID 0648-XE376]

Gulf of Mexico Fishery Management Council; Public Meeting

AGENCY: National Marine Fisheries Service (NMFS), National Oceanic and Atmospheric Administration (NOAA), Commerce.

ACTION: Notice of hybrid meeting open to the public offering both in-person and virtual options for participation.

SUMMARY: The Gulf of Mexico Fishery Management Council (Council) will hold a four-day meeting to consider actions affecting the Gulf of Mexico fisheries in the exclusive economic zone (EEZ).

DATES: The meeting will convene Monday, November 4 through Thursday, November 7, 2024. Daily schedule will be 8:30 a.m.-5 p.m., EST.

ADDRESSES: The meeting will take place at the Hilton St. Petersburg Bayfront Hotel, located at 333-1st Street South, St. Petersburg, FL 33701. If you prefer to “listen in”, you may access the log-in information by visiting our website at https://www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, November 4, 2024; 8:30 a.m.-5 p.m., EST

The meeting will begin in Full Council with review and adoption of Proposed Council Committee Assignments for November 2024 through August 2025 and Current Council Committee Assignments.

Committee Sessions will follow beginning with the Habitat Protection & Restoration Committee's review of the Final Essential Fish Habitat Contract Report. The Law Enforcement Committee will convene to receive a report from the October 2024 Law Enforcement Technical Committee meeting.

Sustainable Fisheries Committee will gather to discuss Research and Monitoring Priorities for 2025-2028 including Scientific and Statistical Committees (SSC) Recommendations, review and discuss SSC Recommendations for the following items: Southeast Data, Assessment, and Review (SEDAR) Process Changes and Assessment Approaches; Consideration of Carryover and Phase-in for Gulf Stocks in Proposed Acceptable Biological Catch (ABC) Control Rule Management Strategy Evaluation (MSE) Simulations; and receive a presentation for Consideration of Wahoo for Federal Management.

Following lunch, the Shrimp Committee will review Draft Shrimp Framework Action: Modification of the Vessel Position Data Collection Program for the Gulf of Mexico Shrimp Fishery and presentation.

The Reef Fish Committee will review the Reef Fish and Individual Fishing Quota (IFQ) Program Landings, and State Program Landings for Red Snapper.

Tuesday, November 5, 2024; 8:30 a.m.-5:30 p.m., EST

The Council will receive a Litigation update. Following, the Reef Fish Committee will reconvene to review and discuss Draft Options: Reef Fish Amendment 58B: Modifications to Deep-water Grouper Management Measures, Presentation: Modifications to Lane Snapper Minimum Size and Recreational Bag Limits and Draft Options: Reef Fish Amendment 58A: Modifications to Shallow-water Grouper Management Measures and receive a presentation for Reef Fish Amendment 60: Individual Fishing Quota Distributional Issues.

The Committee will also review draft options for Federal For-hire Fishing Season for Red Snapper, receive the SSC Summary Report for SEDAR 88 Stock Assessment for Gulf Red Grouper, Recreational Red Snapper Texas Calibration Simulation and Southeastern U.S. Black Grouper Management Strategy. The Committee will discuss updated NMFS Bottom Longline Index for Gulf Red Snapper and Request for an update on the Greater Amberjack Count.

Wednesday, November 6, 2024; 8:30 a.m.-5 p.m., EST

The Data Collection Committee will receive a presentation on Highly Migratory Species Proposed rule, discuss For-hire Data Collection Amendment, review Southeast Region Headboat Survey Report, and receive updates on Marine Resources Information Program (MRIP) Transition and Pilot Project.

The Council will reconvene at approximately 11 a.m., EST with a Call to Order, Announcements and Introductions, Adoption of Agenda and Approval of Minutes.

The Council will present the 2023 Law Enforcement Team of the Year Award and receive presentation updates for the National Seafood Strategy, Bureau of Ocean Energy Management (BOEM) Wind Energy Development in Gulf of Mexico and Exempted Fishing Permit from Texas SeaGrant. Following lunch, the Council will hold public testimony beginning at 1:45 p.m. to 5 p.m., EST for comments for open testimony on other fishery issues or concerns. Public comment may begin earlier than 1:45 p.m. EST but will not conclude before that time. Persons wishing to give public testimony in-person must register at the registration kiosk in the meeting room. Persons wishing to give public testimony virtually must sign up on the Council website during the Council meeting. Registration for virtual testimony closes one hour (12:45 p.m. EST) before public testimony begins.

Thursday, November 7, 2024; 8:30 a.m.-5 p.m., EST

The Council will receive Committee reports from Habitat Protection & Restoration, Law Enforcement, Sustainable Fisheries, Shrimp, Data Collection, and Reef Fish Committees and discuss Council recommendation on Exempted Fishing Permit. The Council will receive updates from the following supporting agencies: South Atlantic Fishery Management Council Liaison; Florida Law Enforcement Efforts, NOAA Office of Law Enforcement (OLE); Gulf States Marine Fisheries Commission; U.S. Coast Guard; U.S. Fish and Wildlife Service; and Department of State.

Lastly, the Council will hold a discussion on Council Planning and Primary Activities, and any Other Business items.

Meeting Adjourns

The meeting will be a hybrid meeting; both in-person and virtual participation available. You may register for the webinar to listen-in only by visiting https://www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: October 11, 2024.
Alyssa Weigers,
Acting Deputy Director, Office of Sustainable Fisheries, National Marine Fisheries Service.

[FR Doc. 2024-23935 Filed 10-16-24; 8:45 am]

BILLING CODE 3510-22-P